DEPARTMENT OF STATE

[Public Notice 6126]

Notice of Information Collection Under Emergency Review: DS-7646, U.S. National Commission for UNESCO Laura W. Bush Traveling Fellowship, New OMB 1405-xxxx

AGENCY: Department of State.

ACTION: Notice of request for emergency OMB approval.

SUMMARY: The Department of State has submitted the following information collection request to the Office of Management and Budget (OMB) for review and approval in accordance with the emergency review procedures of the Paperwork Reduction Act of 1995.

• Title of Information Collection: The U.S. National Commission for UNESCO Laura W. Bush Traveling Fellowship.

• OMB Control Number: None.

• Type of Request: Emergency Review.

• Originating Office: Bureau of International Organization Affairs, Office of UNESCO Affairs, Executive Secretariat U.S. National Commission for UNESCO (IO/UNESCO).

• Form Number: DS-7646.

• Respondents: U.S. college and university students applying for fellowship.

• Estimated Number of Respondents: 100.

• Estimated Number of Responses: 100.

• Average Hours per Response: 10.

• Total Estimated Burden: 1000 hours.

• Frequency: On occasion.

• Obligation to respond: Required to obtain or retain a benefit.

The proposed information collection is published to obtain comments from the public and affected agencies. Emergency review and approval of this collection has been requested from OMB by April 1, 2008. If granted, the emergency approval is only valid for 180 days. Comments should be directed to the Department of State Desk Officer in the Office of Information and Regulatory Affairs at the Office of Management and Budget (OMB), Washington, DC 20503. Fax number 202-395-6974.

During the first 60 days of the emergency approval period, a regular review of this information collection is also being undertaken. The agency requests written comments and suggestions from the public and affected agencies concerning the proposed collection of information. Comments will be accepted until 60 days from the date that this notice is published in the Federal Register.

You may submit comments by any of the following methods:

• E-mail: dcunesco@state.gov.

• Mail (paper, disk, or CD-ROM submissions): U.S. National Commission for UNESCO, Office of UNESCO Affairs, 2121 Virginia Avenue, NW., Suite 6200, Washington, DC 20037.

• Fax: (202) 663-0035.

You must include the DS form number (DS-7646), information collection title, and OMB control number in any correspondence.

FOR FURTHER INFORMATION CONTACT: Direct requests for additional information regarding the collection listed in this notice, including requests for copies of the proposed information collection and supporting documents, to Alexander Zemek, Deputy Executive Director, U.S. National Commission for UNESCO, who may be reached at (202) 663-0026.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Fellowship applicants, U.S. citizen students at U.S. colleges and universities, will submit descriptions of self-designed proposals for brief travel abroad to conduct work that is consistent with UNESCO's substantive mandate to contribute to peace and security by promoting collaboration among nations through education, science, and culture in order to further universal respect for justice, for the rule of law and for the human rights and fundamental freedoms which are affirmed for the peoples of the world, without distinction of race, sex, language or religion, by the Charter of the United Nations. The information will be reviewed for the purpose of identifying the most meritorious proposals, as measured against the published evaluation criteria.

Methodology: The U.S. Department of State, Bureau of International Organization Affairs, Office of UNESCO Affairs, Executive Secretariat U.S. National Commission for UNESCO (IO/UNESCO) will collect this information via electronic submission.

Dated: March 5, 2008.
Alexander F. Zemek,
Deputy Executive Director, U.S. National Commission for UNESCO, Bureau of International Organization Affairs, Department of State.

[FR Doc. E8-4653 Filed 3-7-08; 8:45 am]

BILLING CODE 4710-19-P